DEPARTMENT OF TRANSPORTATION

Federal Highway Administration

[Docket No. FHWA-2018-0013]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by April 30, 2018.

ADDRESSES: You may submit comments identified by DOT Docket ID Number FHWA 2018-0013, by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Julie Johnston, Office of Program Administration, 202-591-5858, Julie.johnston@dot.gov, Federal Highway Administration, Department of Transportation, 1200 New Jersey Avenue SE, Washington, DC 20590. Office hours are from 8 a.m. to 5 p.m., Monday through Friday, except Federal holidays.

SUPPLEMENTARY INFORMATION:

Title: Value Engineering Call for Data.

Background: Value Engineering (VE) is defined as a systematic process of review and analysis of a project, during the concept and design phases, by a multidiscipline team of persons not involved in the project, that is conducted to provide recommendations for providing the needed functions safely, reliably, efficiently, and at the lowest overall cost; improving the value and quality of the project; and reducing the time to complete the project. Applicable projects requiring a VE analysis include Projects on the National Highway System (NHS) receiving Federal assistance with an estimated total cost of $50,000,000 or more; Bridge projects on the NHS receiving Federal assistance with an estimated total cost of $40,000,000 or more; any major project, as defined in 23 U.S.C. 106(h), located on or off the NHS, that utilizes Federal-aid highway funding in any contract or phase; and other projects as defined in 23 CFR 627.5. 23 U.S.C. 106(e)(4)(iv) and 23 CFR 627.7(3) require States to monitor, evaluates and annually submit a report that describes the results of the value analyses that are conducted and the recommendations implemented on applicable projects. The FHWA will submit a National Call for VE Data in order to monitor and assess the VE Program and meet the requirements of 23 U.S.C. 106(h).

Respondents: 52.

Frequency: Once per year.

Estimated Average Burden per Response: Approximately 2 hours per participant over a year.

Estimated Total Annual Burden Hours: Approximately 104 hours per year.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: February 23, 2018.
Michael Howell,
Information Collection Officer.

[FR Doc. 2018-04064 Filed 2-27-18; 8:45 am]

BILLING CODE 4910-22-P